DEPARTMENT OF AGRICULTURE

Office of the Secretary

Improving Customer Service

AGENCY: Office of the Secretary, USDA.

ACTION: Request for information.

SUMMARY: Consistent with Executive Order 13781, “Comprehensive Plan for Reorganizing the Executive Branch,” and using the authority of the Secretary to reorganize the Department under section 4(a) of Reorganization Plan No. 2 of 1953, the U.S. Department of Agriculture (USDA) is soliciting public comment on the proposed reorganization announced by Secretary Perdue on May 11, 2017.

DATES: Comments and information are requested on or before June 14, 2017.

ADDRESSES: Interested persons are invited to submit comments regarding this notice. All submissions must refer to “Improving Customer Service” to ensure proper delivery.

• Electronic Submission of Comments. Interested persons may submit comments electronically through the Federal eRulemaking Portal: http://www.regulations.gov. USDA strongly encourages commenters to submit comments electronically. Electronic submission of comments allows the commenter maximum time to prepare and submit a comment, and ensures timely receipt by USDA. Commenters should follow the instructions provided on that site to submit comments electronically.

• Submission of Comments by Mail, Hand delivery, or Courier. Paper, disk, or CD-ROM submissions should be submitted to the Office of Budget and Program Analysis, USDA, Jamie L. Whitten Building, Room 101-A, 1400 Independence Ave. SW., Washington, DC 20250.

FOR FURTHER INFORMATION CONTACT: Donald Bice, Telephone Number: (202) 720-5303.

SUPPLEMENTARY INFORMATION: USDA is committed to operating efficiently, effectively, and with integrity, and minimizing the burdens on individuals businesses and communities for participation in and compliance with USDA programs. USDA works to support the American agricultural economy to strengthen rural communities; to protect and conserve our natural resources; and to provide a safe, sufficient, and nutritious food supply for the American people. The Department's wide range of programs and responsibilities touches the lives of every American every day.

I. Executive Order 13781

Executive Order 13781, “Comprehensive Plan for Reorganizing the Executive Branch,” is intended to improve the efficiency, effectiveness, and accountability of the executive branch. The principles in the Executive Order provide the basis for taking actions to enhance and strengthen the delivery of USDA programs. The Department will continue to work within the Administration on the government-wide reform plan and additional reform efforts.

II. Reorganization Actions

On May 11, 2017, Secretary Perdue announced his intent to take actions to advance agricultural trade by creating an Under Secretary for Trade and Foreign Agricultural Affairs, create a customer-focused culture of public service and improve the effectiveness, efficiency and accountability of agencies who provide services to agricultural producers by realigning agencies in the Department under an Under Secretary for Farm Production and Conservation, and elevate the importance of the activities carried out by the Rural Development mission area by realigning those agencies to report directly to the Secretary. https://www.usda.gov/media/press-releases/2017/05/11/secretary-perdue-announces-creation-undersecretary-trade.

III. Request for Information

USDA is seeking public comment on the actions identified in the May 11, 2017, announcement. In addition, we note that the Administration has requested the public's ideas on how to reorganize the Executive branch. For those who would like to provide their input, the Administration has provided a Web site located at https://www.whitehouse.gov/reorganizing-the-executive-branch. The Department encourages the public to participate.

USDA notes that this notice is issued solely for information and program-planning purposes. While responses to this notice do not bind USDA to any further actions, all submissions will be reviewed by the appropriate program office, and made publicly available on http://www.regulations.gov.

Dated: May 11, 2017.
Donald Bice,
Associate Director, Office of Budget and Program Analysis.

[FR Doc. 2017-10063 Filed 5-15-17; 4:15 pm]

BILLING CODE 3410-90-P